DEPARTMENT OF AGRICULTURE

Submission for OMB Review; Comment Request

May 18, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 22, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Assessment of the Barriers that Constrain the Adequacy of Supplemental Nutrition Assistance Program (SNAP) Allotments.

OMB Control Number: 0584-NEW.

Summary of Collection: To determine the individual and household barriers faced by SNAP participants or any environmental barriers that prevent them from having access to a healthy diet throughout the month; understand the interaction between individual, household, and environmental barriers and determine how, if at all, the individual, household, and environmental barriers can be accounted for in determining SNAP allotments.

Need and Use of the Information: The findings will inform methods to design and shape the program to help meet participants' health and nutrition needs. Researchers will be able to further analyze the study data and contribute to the knowledge base regarding SNAP participants' barriers to purchasing and consuming healthy foods.

Description of Respondents: Individuals/Households.

Number of Respondents: 6,593.

Frequency of Responses: Reporting: Annually.

Total Burden Hours: 3,416.

Ruth Brown,
Departmental Information Collection Clearance Officer.

[FR Doc. 2017-10480 Filed 5-22-17; 8:45 am]

BILLING CODE 3410-30-P